DEPARTMENT OF THE INTERIOR

Fish and Wildlife Service

Notice of Availability of the Draft Comprehensive Conservation Plans and Environmental Assessments for Chickasaw National Wildlife Refuge in Lauderdale County, TN; Hatchie National Wildlife Refuge in Haywood County, TN; Lower Hatchie National Wildlife Refuge in Lauderdale and Tipton Counties, TN; and Reelfoot and Lake Isom National Wildlife Refuges in Obion and Lake Counties, TN; and Fulton County, KY

AGENCY: Fish and Wildlife Service, Interior.

ACTION: Notice of availability.

SUMMARY: The Fish and Wildlife Service announces that Draft Comprehensive Conservation Plans and Environmental Assessments for the above referenced refuges are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

DATES: A meeting will be held to present the plans to the public. Mailings, newspaper articles, and posters will be the avenues to inform the public of the date and time for the meeting. Individuals wishing to comment on these draft plans and environmental assessments should do so no later than February 21, 2005.

ADDRESSES: Requests for copies of each of these plans and environmental assessments should be addressed to West Tennessee Refuges, 301 No. Church, Room 201, Dyersburg, Tennessee 38024; Telephone 731/287-0650. The plans may also be accessed and downloaded from the Service's Internet Web site http://southeast.fws.gov/planning/. Comments on the draft plans may be submitted to the above address or via electronic mail to Randy_Cook@fws.gov. Please include your name and return address in your Internet message. Our practice is to make comments, including names and home addresses of respondents, available for public review during regular business hours. Individual respondents may request that we withhold their home addresses from the record, which we will honor to the extent allowable by law.

SUPPLEMENTARY INFORMATION: Significant issues addressed in the draft plans include: threatened and endangered species; waterfowl management; neotropical migratory birds; bottomland hardwood forest restoration; agriculture; visitor services; funding and staffing; cultural resources; and land acquisition.

Alternatives

The Service developed the following alternatives for managing the refuges and selected Alternative D as the preferred alternative.

Alternative A. Existing refuge management and public outreach practices would be favored under this alternative. Refuge management actions would be directed toward achieving established refuge purposes including (1) preserving wintering waterfowl habitat (e.g., croplands, moist-soil management units), and (2) meeting the habitat conservation goals of the North American Waterfowl Management Plan. Additionally, these actions would contribute to other national, regional, and state goals to protect and restore habitat for shorebirds, wading birds, neotropical breeding birds, and threatened and endangered species. Refuge management programs would continue to be developed and implemented with little baseline biological information. Active habitat management would continue to be implemented through water level manipulations, moist-soil and cropland management, and forest management designed to provide a diverse complex of habitats that meet the foraging, resting, and breeding requirements for a variety of species. However, no additional moist-soil units would be developed and no new lands would be acquired.

Control of exotic plants or nuisance wildlife populations, including beaver, would be kept to a reactive level. Hunting and fishing would continue to be the major focus for the public use program, with no expansion of current opportunities. Current restrictions or prohibitions would remain, including the seasonal closure of the waterfowl sanctuary. No new visitor education facilities would be built and only limited improvements would occur for existing environmental education exhibits and interpretive materials.

Alternative B. This alternative would emphasize recreational uses and environmental education while maintaining a low maintenance approach to managing habitats. Additional staff and resources would be dedicated to allow for more public use activities in all areas of the refuges. Bottomland hardwood forests and moist-soil habitats would be maintained on existing lands but no additional moist-soil units would be developed. Cropland acres would be reduced to accommodate increased public use programs.

If opportunities and funding become available, new refuge lands could be acquired up to the completion of the current approved acquisition boundaries. Additional lands would be managed for public use rather than habitat management under this alternative.

Control of exotic plants or nuisance wildlife populations would be kept to a minimal and reactive level. Beaver control would be conducted only where necessary to protect property of adjoining landowners. However, the deer herd would be controlled through public hunting and opportunity would be expanded under this alternative. Hunting and fishing seasons and regulations would be examined to provide more opportunities.

Outreach opportunities would be designed to increase public understanding and enjoyment of fish and wildlife and their habitats. Efforts would include increased participation in the local civic organizations and in meeting with city, county, and State officials.

Secondary recreational uses would be considered for compatibility on refuge lands. The environmental education program could see a visitor education facility, exhibits, and interpretive materials. Additional staff and/or volunteers would be added in an effort to increase on-site public contacts, including enhanced environmental education and interpretation programs on and off the refuges.

Alternative C. Under this alternative, the emphasis would be the active and intensive management of existing fish, wildlife, and plant habitats. Primary management efforts would focus on restoring and enhancing habitats and associated plant communities for the benefit of migratory birds, threatened and endangered species, and other federal trust species. Forest habitat would be managed to increase and enhance the red oak component for migratory waterfowl by manipulating existing timber stands through both commercial and non-commercial harvest methods, and by incorporating native tree species in any future reforestation efforts. Additional staff and resources would be dedicated to allow for more habitat management activities in all areas of the refuges, such as tree planting in converted bottomland hardwood forests and a prescribed burning program. Integrated biological controls and harvest methods would be used to control exotic plant or nuisance wildlife species. The biological research and monitoring program would also receive more attention.

Refuge staff would continue to restore, enhance, and maintain existing bottomland hardwood forests and moist-soil units, and additional moist-soil units would be developed on existing and newly acquired lands. Cropland habitats would be managed by cooperative and force account farming and additional units would be developed on newly acquired lands.

As opportunities and funding become available, new refuge lands could be acquired to complete the current approved acquisition boundaries. Newly acquired lands would be managed with an emphasis on habitat management rather than public use under this alternative.

In contrast to the expansion of habitat work, new recreational opportunities for visitors would not be pursued and environmental education and outreach programs would remain at present levels. Hunting and fishing seasons and access would continue, but with the possibility of more seasonal closures to protect sensitive wildlife resources. The environmental education program could see a new visitor facility but only minimal improvements in existing exhibits and interpretive materials. A slight increase in public awareness of the refuges would be expected due to land protection efforts.

Alternative D. The Service planning team has identified Alternative D as the preferred alternative. This alternative was developed based on public input and the best professional judgment of the planning team. Strategies presented in the draft plans were developed as a direct result of the selection of Alternative D.

Alternative D represents a combination and/or compromise between Alternative B (Habitat Management Emphasis) and Alternative C (Public Use Emphasis). Whereas these two alternatives seek to maximize either expanded wildlife habitat management or expanded public use opportunities, Alternate D seeks to optimize the benefits of the refuges to wildlife and people, recognizing that tradeoffs may preclude maximizing the benefits of each alternative. By seeking the “best of both” Alternatives B and C, Alternative D would promote better management and protection of fish, wildlife, and their habitats and higher quality recreational and educational programs for visitors.

Under Alternative D, refuge lands would be more intensely managed than at present to provide high quality habitat for wildlife, which would work toward fulfilling the habitat objectives outlined for the Mississippi Alluvial Valley Migratory Bird Initiative, and would include significant benefits for waterfowl, shorebirds, and neotropical migratory birds. With the implementation of this alternative, there would be significant habitat benefits to migratory bird species by increasing and enhancing breeding, wintering, and migration habitat for wetland-dependent migratory species. This alternative contributes directly to the objectives of the Lower Mississippi Joint Venture of the North American Waterfowl Management Plan, the Partners in Flight—Mississippi Alluvial Valley Habitat Conservation Plan, the United States Shorebird Conservation Plan—Lower Mississippi Valley/West Gulf Coastal Plain, West Tennessee Wildlife Resources Conservation Plan, and the North American Woodcock Plan, and provides integrated migratory bird management objectives in a landscape-level, biologically driven framework particularly for migratory birds. This would include creating and maintaining additional moist-soil units and restoring bottomland hardwood forest habitats.

Fisheries management would be emphasized and, where appropriate, restored for native diversity within the floodplain. Refuge habitats would be managed and restored for natural diversity in support of national and regional plans. Forest management would address the need to restore and enhance the red oak component for migratory waterfowl and develop vertical structure to provide habitat for a diversity of species, particularly priority migratory birds. Any future reforestation efforts would incorporate greater native tree species diversity.

This alternative would encourage more public recreational and educational uses, where feasible, while intensifying current habitat management. Hunting and fishing would continue with greater emphasis on the quality of the experience and with more diverse opportunities, including those for youth and disabled hunters/anglers. Education and interpretation would be promoted while providing programs and partnerships with local schools. Wildlife observation and photography opportunities would be expanded. Information guides and signage that highlight refuge management programs, as well as unique wildlife habitats, would also be developed. Efforts would also be undertaken to improve road maintenance in order to provide better visitor access.

A visitor center and headquarters office would be constructed on the refuges, with space for interpretation, environmental education, and staff.

Research studies would continue to be fostered and partnerships developed with universities and other agencies, with the refuges providing needed resources and study sites. Research would also provide benefits to conservation efforts throughout the Lower Mississippi River Valley to preserve, enhance, restore, and manage bottomland hardwood habitat. Inventorying and monitoring of birds, freshwater mussels, reptiles, and amphibians would be continued and expanded in order to assess population trends, correlate with environmental pressures, and provide baseline data to be used in development of appropriate management strategies. Additional staff would include biological, law enforcement, outreach, and maintenance personnel. Providing a wildlife biologist, outdoor recreation planner, maintenance workers, and an additional full-time law enforcement officer would enable the Service to fully develop and manage fish and wildlife resources and habitats, provide opportunities and facilities for wildlife observation and photography, provide environmental educational programs that promote a greater understanding of natural resources, and protect natural and cultural resources, as well as refuge visitors.

Under this alternative, the refuges would continue to acquire lands within the present acquisition boundaries for the use of compatible wildlife-dependent public recreation and environmental education opportunities.

Tracts that provide better-quality habitat and connectivity to existing refuge lands would receive higher priority for acquisition. The refuges would also use other important acquisition tools, including partnerships with conservation organizations, conservation easements with adjacent landowners, and leases/cooperative agreements.

Authority: This notice is published under the authority of the National Wildlife Refuge System Improvement Act of 1997, Public Law 105-57.

Dated: October 7, 2005.
Cynthia K. Dohner,
Acting Regional Director.

[FR Doc. 06-48 Filed 1-3-06; 8:45 am]

BILLING CODE 4310-55-M